FEDERAL MARITIME COMMISSION

Notice of Meeting

Agency Holding the Meeting: Federal Maritime Commission.

Time and Date: June 25, 2008—2 p.m.

Place: 800 North Capitol Street, NW., First Floor Hearing Room, Washington, DC.

Status: A portion of the meeting will be in Open Session and the remainder of the meeting will be in Closed Session.

Matters To Be Considered:

Open Session

(1) FMC Agreement No. 201186—Mobile Container Terminal Cooperative Working Agreement, effective July 4, 2008.

(2) FMC Agreement No. 201187—Port of Seattle/Port of Tacoma Puget Sound Air Quality Discussion Agreement, effective July 5, 2008.

(3) Privacy Act System of Records.

Closed Session

(1) Export Cargo Issues Status Report.

(2) Internal Administrative Practices and Personnel Matters.

Contact Person for More Information: Karen V. Gregory, Assistant Secretary, (202) 523-5725.

Karen V. Gregory,
Assistant Secretary.

[FR Doc. 08-1374 Filed 6-18-08; 2:12 pm]

BILLING CODE 6730-01-P